ENVIRONMENTAL PROTECTION AGENCY

40 CFR Parts 49 and 52

[EPA-R10-OAR-2017-0347; FRL-9988-88-Region 10]

Indian Country: Air Quality Planning and Management; Federal Implementation Plan for the Kalispel Indian Community of the Kalispel Reservation, Washington; Redesignation to a PSD Class I Area

AGENCY: Environmental Protection Agency (EPA).

ACTION: Notice of proposed rulemaking; reopening of comment period.

SUMMARY: The Environmental Protection Agency (EPA) is reopening the public comment period for the proposed rule “Indian Country: Air Quality Planning and Management; Federal Implementation Plan for the Kalispel Indian Community of the Kalispel Reservation, Washington; Redesignation to a PSD Class I Area” published on October 31, 2018. In the October 31, 2018, publication, the EPA proposed to approve the Kalispel Indian Community of the Kalispel Reservation's request to redesignate certain lands within its reservation to a Class I area under the Prevention of Significant Deterioration program and revise the Federal Implementation Plan for the Kalispel Reservation and State Implementation Plan for the State of Washington accordingly. A commenter requested additional time to review the proposal and prepare comments. In response to this request, the EPA is reopening the comment period.

DATES: The comment period for the proposed rule published October 31, 2018 (83 FR 54691), is reopened, and written comments must be received on or before February 20, 2019.

ADDRESSES: Submit your comments, identified by Docket ID No. EPA-R10-OAR-2017-0347 at https://www.regulations.gov. Follow the online instructions for submitting comments. Once submitted, comments cannot be edited or removed from Regulations.gov. The EPA may publish any comment received to its public docket. Do not submit electronically any information you consider to be Confidential Business Information (CBI) or other information, the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Sandra Brozusky at (206) 553-5317, or brozusky.sandra@epa.gov.

SUPPLEMENTARY INFORMATION: On October 31, 2018, the EPA published a proposed rulemaking to approve the Kalispel Indian Community of the Kalispel Reservation's request to redesignate certain lands within its reservation to a Class I area under the Prevention of Significant Deterioration program and revise the Federal Implementation Plan for the Kalispel Reservation (40 CFR part 49, subpart M) and State Implementation Plan for the State of Washington (40 CFR part 52, subpart WW) accordingly. (83 FR 54691). A commenter requested additional time to review the proposal and prepare comments. In response to this request, the EPA is reopening the comment period.

Dated: December 20, 2018.
Michelle L. Pirzadeh,
Acting Regional Administrator, Region 10.

[FR Doc. 2019-00935 Filed 2-4-19; 8:45 am]

BILLING CODE 6560-50-P